DEPARTMENT OF ENERGY

Federal Energy Regulatory Commission

[Project No. 14861-002]

FFP Project 101, LLC; Notice of Meeting

a. Project Name and Number: Goldendale Energy Storage Project No. 14861-002.

b. Applicant: FFP Project 101, LLC.

c. Date and Time of Meeting: Monday, November 18, 2024 from 11:00 a.m. to 12:30 p.m. Pacific Standard Time (2:00 p.m. to 3:30 p.m. Eastern Standard Time).

d. FERC Contact: Michael Tust, (202) 502-6522, michael.tust@ferc.gov.

e. Purpose of Meeting: Commission staff will hold a meeting with representatives from the Washington State Historic Preservation Office (Washington SHPO), Advisory Council on Historic Preservation (Advisory Council), and affected Native American Tribes to discuss revisions to Commission staff's draft Programmatic Agreement for the proposed Goldendale Energy Storage Project pursuant to section 106 of the National Historic Preservation Act. The meeting will be held virtually via Microsoft Teams.

f. Intervenors in the referenced proceeding may attend the meeting as observers; however, participation will be limited to representatives from the Washington SHPO, Advisory Council, Tribes, and Commission staff. If meeting attendees decide to disclose information about a specific location which could create a risk or harm to an archaeological site or Native American cultural resource, attendees other than the Washington SHPO, Advisory Council, Tribal representatives and Commission staff will be excused for that portion of the meeting. A summary of the meeting will be placed in the public record of this proceeding. As appropriate, the meeting summary will include both a public, redacted version that excludes any information about the specific location of the archeological site or Native American cultural resource and an unredacted privileged version. Intervenors planning to attend the meeting should notify Michael Tust at (202) 502-6522 or michael.tust@ferc.gov by Wednesday, November 13, 2024 to RSVP and to receive specific instructions for logging in to the meeting.

Dated: November 1, 2024.
Debbie-Anne A. Reese,
Secretary.

[FR Doc. 2024-25907 Filed 11-6-24; 8:45 am]

BILLING CODE 6717-01-P